DEPARTMENT OF DEFENSE

Department of the Navy

Notice of Availability for Final PEA and Draft FONSI

AGENCY: Department of the Navy, DoD.

ACTION: Notice of availability.

SUMMARY: Pursuant to Section (102)(2)(c) of the National Environmental Policy Act of 1969 (NEPA) (42 United States Code 4321), as implemented by the Council on Environmental Quality regulations for implementing the procedural provisions of NEPA (40 Code of Federal Regulations [CFR] Parts 1500-1508), and Marine Corps NEPA directives (Marine Corps Order P5090.2A), the Department of the Navy announces the availability of, the Final Programmatic Environmental Assessment (PEA) and draft Finding of No Significant Impact (FONSI) for the development and operation of small-scale wind energy projects at United States Marine Corps (USMC) facilities throughout the Continental United States (CONUS). It is anticipated that site-specific NEPA analysis may be tiered off this document, as appropriate.

Dates and Addresses: The waiting period for the Final PEA and FONSI will end 30 days after publication of a Notice of Availability in the Federal Register.

The Final PEA and draft FONSI are available for electronic viewing at http://marines.mil/unit/marforres/MFRHQ/FACILITIES/FACILITIES.aspx, or by sending a request to Alain Flexer, USMC Marine Forces Reserves (MARFORRES), by telephone 504-678-8489, by fax 504-678-6823, by e-mail to alain.flexer@usmc.mil or by writing to: MARFORRES, Facilities, Attn: Alain Flexer, 4400 Dauphine Street, New Orleans, Louisiana 70146-5400.

FOR FURTHER INFORMATION CONTACT: MARFORRES: Attn: Alain Flexer, telephone 504-678-8489 or by e-mail alain.flexer@usmc.mil.

Dated: April 12, 2011.
D.J. Werner,
Lieutenant Commander, Judge Advocate General's Corps, U.S. Navy, Federal Register Liaison Officer.

[FR Doc. 2011-9359 Filed 4-15-11; 8:45 am]

BILLING CODE 3810-FF-P